DEPARTMENT OF AGRICULTURE

Forest Service

Revision of the Land Management Plans for the Inyo, Sierra and Sequoia National Forests

AGENCY: Forest Service, USDA.

ACTION: Notice to initiate the development of land management plan revisions for the Inyo, Sierra, and Sequoia National Forests.

SUMMARY: The Pacific Southwest Region (Region 5) has initiated land management plan revisions for the Inyo, Sierra, and Sequoia National Forests. The Final Assessments and other related information for these forests have been posted to the Region 5 Web site at http://www.fs.usda.gov/main/r5/landmanagement/planning. The Forest Service invites the public to help develop a “need for change” and desired conditions that will lead to a proposed action for the land management plan revisions.

DATES: Public workshops to share information about the plan revision process will occur the week of January 27ᵗ, 2014, and will be announced through press release and on the above Web site shown. The Web site will also provide recommended reading for the public in preparation for these workshops. The recommended reading consists of preliminary staff work by the Forest Service on the need for change to help guide and focus the workshops. The workshops will concentrate on (1) gathering feedback from the public regarding the preliminary need for change topic areas, which will focus the revision process, (2) identifying missing need for change topics, and (3) developing desired future conditions for the topics identified.

The Notice of Intent to prepare an EIS is scheduled to be published in the Federal Register in April 2014. In order to conduct an efficient analysis process, one Environmental Impact Statement (EIS) will be prepared for the plan revision process of the Sierra, Sequoia and Inyo National Forests. In addition, a separate Record of Decision (ROD) and Land Management Plan will be developed for each of these forests.

ADDRESSES: Written comments or questions concerning this notice should be addressed to Land Management Plan Revision, U.S. Forest Service, Ecosystem Planning Staff, 1323 Club Drive, Vallejo, CA 94592.

Comments or questions may also be sent via email to FS-R5planrevisions@fs.fed.us. All correspondence received, including names and addresses when provided, are placed in the record and are available for public inspection and copying.

FOR FURTHER INFORMATION CONTACT: Debra Whitall, Regional Social Scientist, 707-562-8823. Individuals who use telecommunication devices for the deaf (TDD) may call the Federal Information Relay Service (FIRS) at 1-800-877-8339 between 8:00 a.m. and 8:00 p.m. (Pacific Time), Monday through Friday. More information on the planning process can also be found on the Pacific Southwest Region Plan Revision Web site at http://www.fs.usda.gov/main/r5/landmanagement/planning.

SUPPLEMENTARY INFORMATION: Pursuant to the 2012 Forest Planning Rule (36 CFR Part 219), the planning process encompasses three-stages: Assessment, plan revision, and monitoring. The first stage of the planning process involves assessing social, economic, and ecological conditions of the planning area, which is documented in an assessment report. Final assessment reports for the Inyo, Sierra and Sequoia national forests are posted on the Region 5 Web site at http://www.fs.usda.gov/main/r5/landmanagement/planning. This Web site also has information on a preliminary need for change that the Forest Service developed based on these assessments. These will be vetted and discussed at public workshops in January 2014. This notice announces the start of the second stage of the planning process, which is revising the land management plans. The first task of plan revision is to develop a preliminary “need for change” that identifies the areas that need for change in management direction outlined in the current plans. The preliminary need for change is based on what is important to people, threats to resources, undesirable trends in social, economic, or ecological sustainability, and a need to correct current direction in plans that are not meeting needs to provide benefits sustainably. In addition, it is important to focus on areas where changes to the forest plan can do something substantial to correct concerns identified in the near term. The need for change will be responsive to new information learned through monitoring and assessment.

Based on the public feedback from the public meetings held in January, a proposed action will be developed that responds to needs for change. A Notice of Intent to prepare an environmental impact statement for the land management plan revisions for the Sierra, Sequoia and Inyo National Forests, which will include a description of the preliminary need for change and a description of the proposed action, will be published in April 2014 in the Federal Register.

Forest plans developed under the National Forest Management Act (NFMA) of 1976 describe the strategic direction for management of forest resources for ten to fifteen years, and are adaptive and amendable as conditions change over time. The Forest Plan for the Inyo National Forest was approved in 1988, Sierra NF in 1991, and the original Sequoia NF Plan was approved in 1988. A Significant Amendment to these Forest Plans was approved in 2004 as part of the Sierra Nevada Forest Plan Amendment (aka, the Sierra Nevada Framework). The Sequoia NF has a Mediated Settlement Agreement from 1990 that is still in effect on the lands outside the Sequoia National Monument. The portion of the Sequoia NF in the Giant Sequoia National Monument has a Plan, EIS and ROD that amended the Forest Plan that was completed in 2013. Because the Giant Sequoia National Monument Plan was just completed, it will not be addressed in this revision process. On January 31, 2013, a public announcement was made that the Sierra, Sequoia and Inyo NFs were beginning to work on the Assessment for revising their Forest Plan.

This current notice announces the start of the second stage of the planning process, the development of the land management plan revisions. Once the plan revisions are completed, they will be subject to the objection procedures of 36 CFR Part 219, Subpart B, before they can be approved. The third stage of the planning process is monitoring and evaluation that will occur over the life of the revised plans.

Opportunities for public engagement such as public meetings, workshops, and comment periods will be posted at http://www.fs.usda.gov/main/r5/landmanagement/planning. This information will be updated as the process continues. Information will also be sent to the Forest's stakeholder mailing list. If anyone is interested in being added to this mailing list to receive these notifications, please contact Debra Whitall, Regional Social Scientist at the email or mailing address identified in the For Further Information Contact section above.

Responsible Official

The responsible official for each revision of the land management plan is the Forest Supervisor for each forest:

Ed Armenta, Forest Supervisor, Inyo National Forest Service, 351 Pacu Lane, Suite 200, Bishop, CA 93514.

Dean Gould, Forest Supervisor, Sierra National Forest Service, 1600 Tollhouse Road, Clovis, CA 93611.

Kevin Elliott, Forest Supervisor, Sequoia National Forest, 1839 South Newcomb Street, Porterville, CA 93257.

In order to simplify the process, one Notice of Initiation was sent out for all three of these forests and signed by Deputy Regional Forester Barnie Gyant, Pacific Southwest Regional Office, 1323 Club Drive, Vallejo, CA 94592. The responsible officials for these plan revisions are the Forest Supervisors as listed above.

Dated: December 17, 2013.
Barnie Gyant,
Deputy Regional Forester, Pacific Southwest Region.

[FR Doc. 2013-30815 Filed 12-24-13; 8:45 am]

BILLING CODE 3410-11-P